DEPARTMENT OF ENERGY

Federal Energy Regulatory Commission

Combined Notice of Filings # 2

Take notice that the Commission received the following Complaints and Compliance filings in EL Dockets:

Docket Numbers: EL23-57-002.

Applicants: Lee County Generating Station, LLC v. PJM Interconnection, L.L.C.

Description: Joint Request of PJM Interconnection, L.L.C. and Lee County Generating Station, LLC for Waiver of Tariff Provisions, Expedited Consideration and Shortened Comment Period.

Filed Date: 6/28/23.

Accession Number: 20230628-5195.

Comment Date: 5 p.m. ET 7/3/23.

Take notice that the Commission received the following electric rate filings:

Docket Numbers: ER23-1770-001.

Applicants: Alabama Power Company, Georgia Power Company, Mississippi Power Company.

Description: Tariff Amendment: Alabama Power Company submits tariff filing per 35.17(b): AMEA Revised NITSA Amendment Filing (DNR LOC) to be effective 8/1/2023.

Filed Date: 6/29/23.

Accession Number: 20230629-5043.

Comment Date: 5 p.m. ET 7/20/23.

Docket Numbers: ER23-2295-000.

Applicants: Invenergy Solar Project Development LLC.

Description: Petition of Invenergy Solar Project Development LLC for Prospective One-Time Limited Waiver Request of the Deadline Set in Section 212.4(C) of PJM Interconnection, L.L.C. OATT.

Filed Date: 6/28/23.

Accession Number: 20230628-5184.

Comment Date: 5 p.m. ET 7/12/23.

Docket Numbers: ER23-2298-000.

Applicants: Midcontinent Independent System Operator, Inc., Union Electric Company.

Description: § 205(d) Rate Filing: Midcontinent Independent System Operator, Inc. submits tariff filing per 35.13(a)(2)(iii: 2023-06-29_Union Electric d/b/a Ameren Missouri Depreciation Rates to be effective 7/1/2023.

Filed Date: 6/29/23.

Accession Number: 20230629-5045.

Comment Date: 5 p.m. ET 7/20/23.

Docket Numbers: ER23-2299-000.

Applicants: Duke Energy Carolinas, LLC.

Description: § 205(d) Rate Filing: DEC-Central NITSA-SA 447 to be effective 8/1/2023.

Filed Date: 6/29/23.

Accession Number: 20230629-5054.

Comment Date: 5 p.m. ET 7/20/23.

Docket Numbers: ER23-2300-000.

Applicants: Kentucky Utilities Company.

Description: § 205(d) Rate Filing: Amended APCO Borderline Service Agreement Appendix B to be effective 8/1/2023.

Filed Date: 6/29/23.

Accession Number: 20230629-5072.

Comment Date: 5 p.m. ET 7/20/23.

Docket Numbers: ER23-2301-000.

Applicants: Public Service Company of Colorado.

Description: § 205(d) Rate Filing: 2023-06-29—Aurora Solar APSISA—741—0.0.0 to be effective 6/30/2023.

Filed Date: 6/29/23.

Accession Number: 20230629-5081.

Comment Date: 5 p.m. ET 7/20/23.

Docket Numbers: ER23-2302-000.

Applicants: PJM Interconnection, L.L.C.

Description: § 205(d) Rate Filing: Original ISA, Service Agreement No. 6970; Queue No. AE1-227 to be effective 5/30/2023.

Filed Date: 6/29/23.

Accession Number: 20230629-5088.

Comment Date: 5 p.m. ET 7/20/23.

Docket Numbers: ER23-2303-000.

Applicants: Tri-State Generation and Transmission Association, Inc.

Description: Tariff Amendment: Notice of Cancellation of Rate Schedule No. 310 and Rate Schedule No. 318 to be effective 8/28/2023.

Filed Date: 6/29/23.

Accession Number: 20230629-5108.

Comment Date: 5 p.m. ET 7/20/23.

Docket Numbers: ER23-2304-000.

Applicants: Public Service Company of Colorado.

Description: § 205(d) Rate Filing: 2023-06-29—TSGT—E&P—EIM Metering—746—Concurrence to be effective 5/30/2023.

Filed Date: 6/29/23.

Accession Number: 20230629-5109.

Comment Date: 5 p.m. ET 7/20/23.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: June 29, 2023.
Debbie-Anne A. Reese,
Deputy Secretary.

[FR Doc. 2023-14252 Filed 7-5-23; 8:45 am]

BILLING CODE 6717-01-P